DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 7, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Institute of Food and Agriculture

Title: Expanded Food and Nutrition Education Program (EFNEP).

OMB Control Number: 0524-0044.

Summary of Collection: The Expanded Food and Nutrition Education Program (EFNEP) is a Federal Extension (community outreach) program that currently operates through 1862 and 1890 Land-Grant Universities in every state, the District of Columbia, and the six U.S. territories. The program uses education to support participants' efforts towards self-sufficiency, nutritional health, and well-being. EFNEP combines hands-on learning, applied science, and program data to ensure program effectiveness, efficiency, and accountability. The evaluation processes of EFNEP remain consistent with the requirements of Congressional legislation and OMB and supports the reporting requirements requested in the Government Performance and Results Act of 1993 (GPRA) (Pub. L. 103-62), the Federal Activities Inventory Reform Act of 1998 (FAIR Act) (Pub. L. 105-270), and the Agricultural, Research, Extension and Education Reform Act of 1998 AREERA) (Pub. L. 105-185).

Need and Use of the Information: The National Institute of Food and Agriculture (NIFA) will collect information using Web-Based Nutrition Education Evaluation and Reporting System (WebNEERS), which is an integrated database system that stores information on: (1) programmatic results: (A) adult program participants, their family structure and dietary practices; (B) youth group participants; and (C) staff; and (2) programmatic plans (D) annual budget; and (E) annual program plans. NIFA would be unable to compare, assess, and analyze the effectiveness and the impact of EFNEP without the annual collection of data.

Description of Respondents: State, local or Tribal government.

Number of Respondents: 76.

Frequency of Responses: Recordkeeping; Reporting: Annually.

Total Burden Hours: 14,744.

Ruth Brown,
Departmental Information Collection Clearance Officer.

[FR Doc. 2023-04742 Filed 3-7-23; 8:45 am]

BILLING CODE 3410-09-P